FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transnsportation Intermediaries, 46 CFR Part 515, effective on the corresponding date shown below:

License Number: 001337F.

Name: American International Freight Forwarders Inc.

Address: 4416 NW 74th Ave., Miami, FL 33166.

Date Revoked: February 5, 2009.

Reason: Failed to maintain a valid bond.

License Number: 002399F.

Name: Boston Bay Brokers, Inc.

Address: 88 Black Falcon Ave., Ste. 307, Boston, MA 02210.

Date Revoked: February 19, 2009.

Reason: Failed to maintain a valid bond.

License Number: 019059N.

Name: Alliance Logistics, Inc.

Address: 2225 W. Commonwealth Ave., Ste. 103, Alhambra, CA 91803.

Date Revoked: February 19, 2009.

Reason: Failed to maintain a valid bond.

License Number: 019568N.

Name: Allport (USA), Inc.

Address: 144 E. Javelin Street, Carson, CA 90745.

Date Revoked: February 5, 2009.

Reason: Failed to maintain a valid bond.

License Number: 011064N.

Name: American Worldwide Shipping Company, Inc.

Address: 7651 W. 41st Ave., Ste. 101, Wheat Ridge, CO 80033.

Date Revoked: February 12, 2009.

Reason: Failed to maintain a valid bond.

License Number: 003317NF.

Name: Cargamericas Forwarding Services, Inc.

Address: 6801 NW 82nd Ave., Miami, FL 33166.

Date Revoked: February 27, 2009.

Reason: Failed to maintain valid bonds.

License Number: 019727F.

Name: Cargo Logistics LLC.

Address: 3294 Ashley Phosphate Rd., Ste. 2C, North Charleston, SC 29418.

Date Revoked: February 9, 2009.

Reason: Surrendered license voluntarily.

License Number: 020825F.

Name: Global Connection Logistics, Inc.

Address: 2209 NW 79th Ave., Miami, FL 33126.

Date Revoked: February 9, 2009.

Reason: Failed to maintain a valid bond.

License Number: 014886NF.

Name: Good One Express (CHI) Inc.

Address: 1001 Nicholas Blvd., #A, Elk Grove Village, IL 60007.

Date Revoked: February 19, 2009.

Reason: Failed to maintain valid bonds.

License Number: 020606NF.

Name: Inter Continental Transportation Corp dba ICTC.

Address: 11788 W. Sample Rd., Ste. 105, Coral Springs, FL 33065.

Date Revoked: February 20, 2009.

Reason: Failed to maintain valid bonds.

License Number: 000751N.

Name: International Forwarders, Inc.

Address: 1350 Ashley River Rd., Charleston, SC 29407-5347.

Date Revoked: January 22, 2009.

Reason: Surrendered license voluntarily.

License Number: 003953F.

Name: Janise Kae Disbrow dba J.B. Max International Forwarding Services.

Address: 5008 58th St., Ct. E., Tacoma, WA 98443.

Date Revoked: February 4, 2009.

Reason: Surrendered license voluntarily.

License Number: 014830N.

Name: K.K. Car Co., Inc.

Address: 929 So., Dixie Highway, Lake Worth, FL 33460.

Date Revoked: February 2, 2009.

Reason: Surrendered license voluntarily.

License Number: 020780N.

Name: Kevin Jung dba U.S. Global Logistics.

Address: 540 S. Catalina St., Suite 209, Los Angeles, CA 90020.

Date Revoked: February 26, 2009.

Reason: Surrendered license voluntarily.

License Number: 020498NF.

Name: KP Freight, LLC dba BOCA Logistics dba Coastal Forwarding.

Address: 851 Appleby St., Boca Raton, FL 33487.

Date Revoked: February 12, 2009 and January 22, 2009.

Reason: Failed to maintain a valid bond.

License Number: 021158NF.

Name: KYN International Inc.

Address: 9710 NW. 110th Ave., Ste. 6, Miami, FL 33178.

Date Revoked: February 25, 2009.

Reason: Failed to maintain valid bonds.

License Number: 020055F.

Name: Legero International Houston, Inc.

Address: 2502 Farrell Rd., Houston, TX 77073.

Date Revoked: February 27, 2009.

Reason: Failed to maintain a valid bond.

License Number: 019643NF.

Name: Sigma Logistics, Inc.

Address: 1100 S. El Molino Ave., Pasadena, CA 91106.

Date Revoked: February 8, 2009.

Reason: Failed to maintain valid bonds.

License Number: 020598N.

Name: Sola Forwarding Inc.

Address: 171 West St., Brooklyn, NY 11222.

Date Revoked: February 11, 2009.

Reason: Failed to maintain a valid bond.

License Number: 001679F.

Name: TSI Transport Services International, Ltd.

Address: 2175 Wantagh Ave., Ste. 108, Wantagh, NY 11793-3915.

Date Revoked: February 11, 2009.

Reason: Failed to maintain a valid bond.

License Number: 019543N.

Name: Ultimate Logistics, Inc.

Address: 3121 W. Hallandale Beach Blvd., Ste. 113, Pembroke Park, FL 33009.

Date Revoked: February 4, 2009.

Reason: Surrendered license voluntarily.

License Number: 012895N.

Name: United Trans-Trade, Inc.

Address: 2227 U.S. Hwy. No. 1, #168, North Brunswick, NJ 08902.

Date Revoked: February 2, 2009.

Reason: Surrendered license voluntarily.

License Number: 002235F.

Name: WTS of Houston, Inc.

Address: 15900 Morales Rd., Houston, TX 77032.

Date Revoked: February 25, 2009.

Reason: Surrendered license voluntarily.

Sandra L. Kusumoto,
Director, Bureau of Certification and Licensing.

[FR Doc. E9-5846 Filed 3-17-09; 8:45 am]

BILLING CODE 6730-01-P